NATIONAL SCIENCE FOUNDATION

Agency Information Collection Activities: Request for Public Comment on Common Disclosure Forms for the Biographical Sketch and Current and Pending (Other) Support for Use in Submission of Research Applications

AGENCY: National Science Foundation.

ACTION: Submission for OMB review; comment request.

SUMMARY: The National Science Foundation (NSF), on behalf of the National Science and Technology Council's (NSTC) Research Security Subcommittee, has submitted the following information collection to OMB for review and clearance in accordance with the requirements of the Paperwork Reduction Act (PRA) of 1995. This is the second notice for public comment; the first was published in the Federal Register on August 31, 2022, and 100 discrete comments were received. Commenters included individuals, professional societies, institutions of high education, and Federal agencies. All comments have been considered in the development of the proposed version. A summary of the responses to the comments received, including the significant changes and clarifications to the common forms has been incorporated into the Comment Table. Please see http://www.nsf.gov/bfa/dias/policy/. NSF is forwarding the proposed Biographical Sketch and Current and Pending (Other) Support sections of a research application as common disclosure forms to the Office of Management and Budget (OMB) for clearance simultaneously with the publication of this second notice. The full submission may be found at: http://www.reginfo.gov/public/do/PRAMain. The National Science Foundation has agreed to serve as steward for collection and resolution of public comments, as well as for posting and maintaining these common disclosure forms (including subsequent revisions), as well as other associated documents. The NSTC Research Security Subcommittee, has developed this information collection as common disclosure forms to permit Federal research funding agencies beyond NSF to streamline the information collection process in coordination with OMB.

DATES: Written comments for the proposed information collection should be sent within 30 days of publication of this notice to www.reginfo.gov/public/do/PRAmain. Find this information collection by selecting “Currently under 30-day Review—Open for Public Comments” or by using the search function.

ADDRESSES: Please address comments to Suzanne H. Plimpton, Reports Clearance Officer, National Science Foundation, 2415 Eisenhower Avenue, Suite E7400, Alexandria, Virginia 22314; telephone (703) 292-7556; or send an email to splimpto@nsf.gov. Individuals who use a telecommunications device for the deaf (TDD) may call the Federal Information Relay Service (FIRS) at 1-800-877-8339, which is accessible 24 hours a day, 7 days a week, 365 days a year (including Federal holidays).

FOR FURTHER INFORMATION CONTACT: For information on the proposed common disclosure forms, contact Jean Feldman, Head, Policy Office, Division of Institution & Support, National Science Foundation, 2415 Eisenhower Avenue, Alexandria, VA 22314, email: jfeldman@nsf.gov; telephone (703) 292-8243; FAX: (703) 292-9171.

For further information on the NSTC Research Security Subcommittee, contact Dr. Cole Donovan, Assistant Director for Research Security and Infrastructure, Office of Science and Technology Policy, Executive Office of the President, 725 17th Street NW, Washington, DC 20503; email: ResearchSecurity@ostp.eop.gov, telephone 202-881-4675; FAX 202-456-6027.

Comments: Comments regarding any fatal flaws in the proposed common disclosure forms should be addressed to the points of contact in the FOR FURTHER INFORMATION CONTACT section.

SUPPLEMENTARY INFORMATION: As required by 5 CFR 1320.8(d), comments on the information collection activities were solicited through the publication of a 60-day notice in the Federal Register at 87 FR 53505. NSF received 100 discrete comments in response to the 60-day notice. Commenters included individuals, professional societies, institutions of high education, and Federal agencies.

NSF may not conduct or sponsor a collection of information unless the collection of information displays a currently valid OMB control number, and the agency informs potential persons who are to respond to the collection of information that such persons are not required to respond to the collection of information unless it displays a currently valid OMB control number.

Title of Collection: Request for Comment regarding Common Disclosure Forms for the Biographical Sketch and Current and Pending (Other) Support.

OMB Approval Number: 3145-NEW.

Type of Request: Intent to seek approval to establish an information collection for common disclosure forms for the Biographical Sketch and Current and Pending (Other) Support for three years.

I. Background

Section 4(b) of NSPM-33 directs that “research funding agencies shall require the disclosure of information related to potential conflicts of interest and commitment from participants in the federally funded R&D enterprise . . . The appropriate disclosure requirement varies depending on the individual's role in the United States R&D enterprise.” Section 4(b)(vi) directs that “agencies should standardize forms for initial disclosures as well as annual updates, . . . and should provide clear instructions to accompany these forms and to minimize any associated administrative burden.”

The NSTC Research Security Subcommittee has worked to develop consistent disclosure requirements from senior personnel, as well as to develop proposed common disclosure forms for the Biographical Sketch and Current and Pending (Other) Support sections of an application for Federal research and development (R&D) grants or cooperative agreements. The purpose of the Biographical Sketch is to assess how well qualified the individual, team, or organization is to conduct the proposed activities. The purpose of Current and Pending (Other) Support is to assess the capacity of the individual to carry out the research as proposed and to help identify any potential scientific and budgetary overlap/duplication, as well as overcommitment with the project being proposed.

These common forms are intended to clarify what is expected of senior personnel applying for R&D funding from Federal research funding agencies. Variations among research agencies will be limited to cases: (a) where required by statute or regulation; (b) where more stringent protections are necessary for protection of R&D that is classified, export-controlled, or otherwise legally protected; or (c) for other compelling reasons consistent with individual agency authorities and as coordinated through the NSTC.

As stated in the NSPM-33 Implementation Guidance, “the goal of these common forms and accompanying instructions is to ensure that applying for awards from any Federal research funding agency will require disclosing the same information in the same manner, to increase clarity and reduce administrative burden on the research community. In some cases, Federal research funding agencies may adapt the forms and instructions, where required by their legal authorities. Such common disclosure forms also will allow the research community to identify and point out where greater clarity may be needed.”

Agencies may develop agency- or program-specific data elements and instructions, if necessary, to meet programmatic requirements, although agencies will be instructed to minimize the degree to which they supplement the common forms. Modification, supplementation, or deviation from these common disclosure forms will require clearance by OMB/OIRA under the PRA process.

These common disclosure forms are intended to replace existing forms/formats currently used by agencies for these sections of applications, thereby increasing the consistency of disclosure forms and reducing administrative burden.

II. Invitation to Comment

The following documents are available for review and comment on the NSF website (see https://www.nsf.gov/bfa/dias/policy/nstc_disclosure.jsp):

a. A common Biographical Sketch form comprised of data elements and associated instructions; and

b. A common Current and Pending (Other) Support form comprised of data elements and associated instructions.

Input is welcome on any fatal flaws associated with the proposed common disclosure forms, including the accompanying instructions.

Burden on the Public
Form name | Number of proposals (estimated) | Number of respondents (estimated) | Burden time per respondent (hours) | Total
Biographical Sketch | 46,500 | 4 | 2 | 372,000
Current and Pending (Other) Support | 46,500 | 4 | 2 | 372,000
Total burden hours |  |  |  | 744,000

Suzanne H. Plimpton,
Reports Clearance Officer, National Science Foundation.

[FR Doc. 2023-16765 Filed 8-4-23; 8:45 am]

BILLING CODE 7555-01-P